NATIONAL AERONAUTICS AND SPACE ADMINISTRATION

[Notice 02-082]

NASA Advisory Council, Space Science Advisory Committee Solar System Exploration Subcommittee Meeting

AGENCY: National Aeronautics and Space Administration (NASA).

ACTION: Notice of Meeting.

SUMMARY: In accordance with the Federal Advisory Committee Act, Public Law 92-463, as amended, the National Aeronautics and Space Administration announces a forthcoming meeting of the NASA Advisory Council (NAC), Space Science Advisory Committee (SScAC), Solar System Exploration Subcommittee (SSES).

DATES: Wednesday, July 17, 2002, 8:30 a.m. to 5 p.m., Thursday, July 18, 2002, 8:30 a.m. to 5 p.m., and Friday, July 19, 2002, 9-11:30 a.m.

ADDRESSES: NASA Headquarters, 300 E Street SW, Washington, DC 20546, Room 6H46 on July 17 and room 9H40 on July 18 and 19.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

• Briefing on NRC Decadal Survey of Solar System Exploration

• Status reports on the Solar System Exploration Program, Mars Exploration Program, Deep Space Network (DSN), and Planetary Data System (PDS)

• Reports from Mars science working groups

• Discussion and working session for preparation of next Solar System Exploration Roadmap

• Evaluation of Solar System Exploration Program performance for Government Performance and Results Act (GPRA)

It is imperative that the meeting be held on these dates to accommodate the scheduling priorities of the key participants. Visitors will be requested to sign a visitor's register.

Dated: July 1, 2002.
Sylvia K. Kraemer,
Advisory Committee Management Officer, National Aeronautics and Space Administration.

[FR Doc. 02-16962 Filed 7-5-02; 8:45 am]

BILLING CODE 7510-01-P